DEPARTMENT OF ENERGY

Federal Energy Regulatory Commission

Combined Notice of Filings #1

Take notice that the Commission received the following electric rate filings:

Docket Numbers: ER13-989-000.

Applicants: Southwest Power Pool, Inc.

Description: Southwest Power Pool, Inc. submits Notice of Cancellation of Point-to-Point Transmission Service Agreement No. 2423 with AES Shady Point, LLC.

Filed Date: 2/26/13.

Accession Number: 20130226-5195.

Comments Due: 5 p.m. ET 3/19/13.

Docket Numbers: ER13-990-000.

Applicants: NorthWestern Corporation.

Description: SA 671—NWE MRI CIAC—Transmission Structure Relocation to be effective 2/28/2013.

Filed Date: 2/27/13.

Accession Number: 20130227-5022.

Comments Due: 5 p.m. ET 3/20/13.

Docket Numbers: ER13-991-000.

Applicants: Exelon Generation Company, LLC.

Description: Notice of Succession to be effective 2/28/2013.

Filed Date: 2/27/13.

Accession Number: 20130227-5023.

Comments Due: 5 p.m. ET 3/20/13.

Docket Numbers: ER13-992-000.

Applicants: ISO New England Inc.

Description: ISO New England Inc. submits 7th Forward Capacity Auction Results Filing.

Filed Date: 2/26/13.

Accession Number: 20130226-5201.

Comments Due: 5 p.m. ET 4/12/13.

Docket Numbers: ER13-993-000.

Applicants: Constellation Energy Commodities Group, Inc.

Description: Notice of Cancellation to be effective 3/1/2013.

Filed Date: 2/27/13.

Accession Number: 20130227-5024.

Comments Due: 5 p.m. ET 3/20/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 27, 2013.
Nathaniel J. Davis, Sr.,
Deputy Secretary.

[FR Doc. 2013-05136 Filed 3-5-13; 8:45 am]

BILLING CODE 6717-01-P